DEPARTMENT OF COMMERCE

National Oceanic and Atmospheric Administration

[RTID 0648-XC718]

Marine Mammals; File No. 27027

AGENCY: National Marine Fisheries Service (NMFS), National Oceanic and Atmospheric Administration (NOAA), Commerce.

ACTION: Notice; receipt of application.

SUMMARY: Notice is hereby given that the Glacier Bay National Park and Preserve (Philip Hooge, Responsible Party), has applied in due form for a permit to conduct research on humpback (Megaptera novaeangliae), killer (Orcinus orca), minke (Balaenoptera acutorostrata), and gray (Eschrichtius robustus) whales.

DATES: Written, telefaxed, or email comments must be received on or before February 27, 2023.

ADDRESSES: The application and related documents are available for review by selecting “Records Open for Public Comment” from the “Features” box on the Applications and Permits for Protected Species (APPS) home page, https://apps.nmfs.noaa.gov, and then selecting File No. 27027 from the list of available applications. These documents are also available upon written request via email to NMFS.Pr1Comments@noaa.gov.

Written comments on this application should be submitted via email to NMFS.Pr1Comments@noaa.gov. Please include File No. 27027 in the subject line of the email comment.

Those individuals requesting a public hearing should submit a written request via email to NMFS.Pr1Comments@noaa.gov. The request should set forth the specific reasons why a hearing on this application would be appropriate.

FOR FURTHER INFORMATION CONTACT: Erin Markin or Carrie Hubard, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The applicant proposes to study humpback, killer, minke, and gray whales to gather information on their ecology, behavior, and population status in southeastern Alaska, including Glacier Bay National Park and Preserve. Individuals may be closely approached for vessel surveys, photo-identification, behavioral observation, collection of feces or sloughed skin, and passive acoustic recording. The maximum annual approaches to whales will be 2050 humpback whales, 500 killer whales, 20 minke whales, and 20 gray whales. Biopsy sampling of 50 humpback whales, annually, is also requested. Unidentified cetacean, pinniped, and salmonid species parts may be collected from predation events. Biological samples may be imported or exported. The requested duration of the permit is 5 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 23, 2023.
Julia M. Harrison,
Chief, Permits and Conservation Division, Office of Protected Resources, National Marine Fisheries Service.

[FR Doc. 2023-01548 Filed 1-25-23; 8:45 am]

BILLING CODE 3510-22-P